DEPARTMENT OF JUSTICE

Notice of Lodging of Consent Decree Pursuant to the Comprehensive Environmental Response, Compensation and Liability Act

In accordance with Departmental policy, 28 CFR 50.7, and section 122 of CERCLA, 42 U.S.C. 9622, notice is hereby given that on September 27, 2000, a proposed Consent Decree in United States v. BF Goodrich Company, et al., C.A. No. C2-97-366 was lodged with the United States District Court for the Southern District of Ohio.

In this action the United States sought recovery of the past costs it incurred in connection with addressing the release or threatened release of contaminants at the Vandale Junkyard Superfund Site in Marietta, Washington County, Ohio. The Consent Decree resolves the United States' claims under section 107(a) of CERCLA, 42 U.S.C. 9607(a), for response costs incurred at the Vandale Superfund Site against six Defendants: (1) B.F. Goodrich Co., Inc.; (2) Cytec Industries, Inc.; (3) Kardex Systems, Inc.; (4) Lockheed Martin Corp.; (5) Exxon Mobil Corp.; and (6) Unisys Corporation. The proposed past cost Consent Decree provides that, in addition to their previous payments of $317,953.96, the Defendants will pay to the United States $1,975,000 for its unreimbursed past response costs and prejudgment interest incurred in connection with the Site prior to December 5, 1999. The Defendants will also reimburse all EPA and DOJ costs incurred after December 5, 1999 for overseeing implementation of the remedial design/remedial action, and for overseeing and enforcing the proposed Consent Decree, to the extent that those costs exceed $190,000.

The United States covenants not to sue Defendants for past response costs and oversight costs. The United States, however, reserves its ability to seek penalties for non-compliance with any orders issued by the Environmental Protection Agency. Similarly, Defendants agree not to sue the United States with respect to past response costs, oversight costs or this Consent Decree and Defendants waive their right to seek contribution with respect to any claims relating to past costs and oversight costs, except where another person first asserts a claim against the Defendants.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. BF Goodrich Company, et al., C.A. No. C2-97-366 (S.D. Ohio), D.J. Ref. 90-11-2-962.

The Consent Decree may be examined at the Office of the United States Attorney for the Southern District of Ohio, 280 North High Street, Fourth Floor, Columbus, Ohio 43215, and the Region 5 Office of the Environmental Protection Agency, 77 West Jackson Street, Chicago, Illinois 60604-3590. A copy of the Consent Decree may also be obtained by mail from the Consent Decree Library, P.O. Box 7611, U.S. Department of Justice, Washington, DC 20044-7611. In requesting a copy, please enclosure a check in the amount of $8 (25 cents per page reproduction cost) payable to the Consent Decree Library.

Walker Smith,
Deputy Chief, Environmental Enforcement Section, Environment and Natural Resources Division.

[FR Doc. 00-25714 Filed 10-5-00; 8:45 am]

BILLING CODE 4410-15-M